ENVIRONMENTAL PROTECTION AGENCY

[EPA-HQ-OPPT-2010-0173; FRL-9912-63]

Request for Nominations of Scientific Peer Reviewers for EPA's Approach for Estimating Exposures and Incremental Health Effects From Lead During Renovation, Repair, and Painting Activities in Public and Commercial Buildings

AGENCY: Environmental Protection Agency (EPA).

ACTION: Notice.

SUMMARY: EPA invites the public to nominate scientific experts to be considered as peer reviewers for the draft document entitled, “Approach for Estimating Exposures and Incremental Health Effects from Lead During Renovation, Repair, and Painting Activities in Public and Commercial Buildings” (Technical Approach Document). A nominee, if selected, will assess the accuracy, content, and interpretation of findings of the Technical Approach Document, ensuring that they are factual and scientifically sound. The peer review will assure the Agency of the soundness of the technical approach.

DATES: The nomination period begins on June 27, 2014 and ends on July 18, 2014.

ADDRESSES: Submit the nominations, identified by docket ID number EPA-HQ-OPPT-2010-0173. In addition, the nomination, must include the nominee's full name, address, affiliation, telephone number, email address, and a statement on the nominee's expertise. Use one of the following submission methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html. Additional instructions on commenting or visiting the docket, along with more information about dockets generally, is available at http://www.epa.gov/dockets.

FOR FURTHER INFORMATION CONTACT:

For technical information contact: Stan Barone, Jr., Risk Assessment Division (7403M), Office of Pollution Prevention and Toxics, Environmental Protection Agency, 1200 Pennsylvania Ave. NW., Washington, DC 20460-0001; telephone number (202) 564-1169; email address: barone.stan@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

You may be potentially affected by this action if you are in environmental and human health; independent contractors and contracting companies involved in renovation, repair, and painting; members of the public interested in the assessment of chemical risks. The following list of North American Industrial Classification System (NAICS) codes is not intended to be exhaustive, but rather provides a guide to help readers determine whether this document applies to them. Potentially affected entities may include:

• Building construction (NAICS code 236).

• Specialty trade contractors (NAICS code 238).

• Real estate (NAICS code 531).

• Other general governmental support (NAICS code 921).

B. What should I consider as I prepare my nominations for EPA?

When submitting a nomination, remember to:

i. Identify the nomination by docket ID number and other identifying information (subject heading, Federal Register date and page number).

ii. Follow directions. The Agency may ask you to respond to specific questions.

iii. Explain as clearly as possible, avoiding the use of profanity or personal threats.

iv. Make sure to submit your nomination by the deadline identified.

II. Background

The work described in the Technical Approach Document is being performed as part of EPA's continuing comprehensive approach to assess and manage risk from lead contamination in painted surfaces under the Toxic Substances Control Act (TSCA), Subtitle IV (15 U.S.C. 2681 et seq.), and specifically to identify lead-based paint hazards created by renovation, repair and painting (RRP) activities in public and commercial buildings (P&CBs), under TSCA section 403. The focus of the Technical Approach Document is to assess the U.S. population's exposure and incremental health effects from renovation and repair activities in P&CBs. EPA published a Federal Register notice on May 30, 2014 (79 FR 31072) (FRL-9910-44) that described an approach under consideration for identifying and evaluating hazards in P&CBs. Estimates of incremental health effect changes associated with exposure to lead in the modeled renovation scenarios in the Technical Approach Document will be used by the Agency as we consider how to identify and evaluate hazards, and make a hazard finding as required by TSCA. EPA plans to publish the Technical Approach Document with a presentation of results in the docket and announce its availability in the Federal Register later this calendar year.

The EPA's Office of Pollution Prevention and Toxics (OPPT) has identified the Technical Approach Document as an influential product and according to Agency peer review guidance is required to conduct an external peer review of that document, supplemental files, appendices, and attendant models used for exposure scenarios. The reviewers are asked to assess the accuracy, content, and interpretation of findings ensuring that they are factual and scientifically sound. The review shall generate comments from the individual expert reviewers.

III. Expertise Sought

Any interested person or organization may nominate him or herself or any qualified individual in the areas of the expertise described in this unit. Peer reviewers should have demonstrated expertise in one or more of the following areas:

1. Multimedia routes of human exposure to lead. Includes knowledge of measurement methods and observed environmental concentrations for multimedia human exposure pathways (relevant concentrations for various sources: Soil, dust, drinking water, food, and lead-based paint).

2. Modeling of multimedia human exposures. Includes, modeling of multimedia human exposure uptake/absorption of lead to predict internal biokinetic distribution (blood/bone lead burdens).

3. Lead exposure pathway assessment. Expertise in the physical and chemical properties of lead and the biogeochemical processes involved in the pathways involved in human exposure to lead. These pathways include:

i. Air (both direct inhalation and deposition to surfaces likely to be contacted by humans).

ii. Soil/dust ingestion.

4. Lead uptake/absorption. Expertise in the processes of uptake or absorption of lead in the digestive tract and lungs, including knowledge of digestive processes that affect the form of lead thus making it more (or less) available for absorption. Experience on the fate of inhaled particles is also desirable, including olfactory uptake.

5. Internal biokinetic distribution and physiological effects of lead. Expertise on the physiological processes that determine the distribution of absorbed lead among the various organs and tissues of the human body. This would include expertise on the mechanisms of transport within the human body, the organs and tissues that accumulate significant amounts of lead, the concentrations at the organ/tissue level that might impair physiological processes, and the residence times (or other measures of potential impact) of lead in these tissues and organs. In addition, expertise on the various mechanisms and routes of elimination and the mechanisms of this elimination is desirable.

6. Tissue concentrations of lead. Includes expertise on measurement methods and observed concentrations for various biological tissues, including blood, teeth, and bone lead concentrations and lead levels in soft tissues such as brain, kidney, etc.

7. Human growth and activity patterns. Expertise on growth patterns and typical human activity patterns from prenatal to elderly, including recreational, occupational, leisure, and household activities. This would include knowledge of published data and of modeling applications.

8. Exposure assessment modeling. Expertise and experience in measuring human population exposure to lead and/or in modeling human exposure to ambient and indoor pollutants. Expertise in relating indicators of human exposure to potential health outcomes and quantification of risk related to adverse health outcomes.

9. Lead-induced health effects. Experience in using statistical methods such as Cox regression for modeling concentration response data from epidemiologic/clinical evaluation of lead-induced effects on:

i. Neurological development and other neurological endpoints.

ii. Cardiovascular function.

iii. Renal effects.

iv. Developmental toxicity.

10. Risk assessment and uncertainty characterization. Expertise in human health risk assessment for lead or other pollutants causing non-cancer and cancer health effects, including Bayesian statistical approaches and biostatistics. Expertise in designing uncertainty characterization frameworks for complex multi-media health assessments involving use of physiologically-based pharmacokinetic (PBPK) models, empirical data, micro environmental exposure modeling, and concentration-response functions drawing on both toxicological and epidemiological data. Specific areas of expertise should include probabilistic methods and Bayesian techniques.

IV. Peer Panel Selection Criteria

Selection criteria for individuals nominated to serve as external peer reviewers include the following:

1. Demonstrated expertise through relevant peer reviewed publications.

2. Professional accomplishments and recognition by professional societies.

3. Demonstrated ability to work constructively and effectively in a committee setting.

4. Absence of financial conflicts of interest.

5. No actual conflicts of interest or the appearance of lack of impartiality.

6. Skills working on committees and advisory panels.

7. Background and experiences that would contribute to the diversity of viewpoints on the panel, e.g., workforce sector; geographical location; social, cultural, and educational backgrounds; and professional affiliations.

8. Willingness to commit adequate time for the thorough review of the draft external peer review document in July-September 2014 (exact date to be determined).

9. Availability to participate in-person in a 2-day peer review meeting in the Washington, DC metro area in August or September 2014 (exact date will be published in the Federal Register at least 30 days prior to the external peer review meeting).

Further information regarding the external peer review meeting will be announced at a later date in the Federal Register.

V. Peer Panel Selection Process

EPA's contractor will notify candidates of selection or non-selection. EPA's contractor will follow-up with nominees and request additional information such as:

1. The disciplinary and specific areas of expertise of the nominee.

2. The nominee's curriculum vita.

3. A biographical sketch of the nominee indicating current position; educational background; past and current research activities; recent service on other advisory committees, peer review panels, editorial boards, or professional organizations; sources of recent grant and/or contract support; and other comments on the relevance of the nominee's expertise to this peer review topic.

EPA's contractor may also conduct an independent search for candidates to assemble a balanced group representing the expertise needed to fully evaluate EPA's draft documents. EPA's contractor will consider and screen all candidates against the criteria listed in Unit III. and the Agency's Conflict of Interest (COI) and appearance of bias guidance (http://www.epa.gov/peerreview/pdfs/spc_peer_rvw_handbook_addendum.pdf and http://www.epa.gov/osa/pdfs/epa-process-for-contractor.pdf). Following the screening process, EPA's contractor will narrow the list of potential reviewers. Prior to selecting the final peer reviewers, a second Federal Register notice will be published to solicit comments on the interim list of 12-15 candidates. The public will be requested to provide relevant information or documentation on the nominees that EPA's contractor should consider in evaluating the candidates within 21 days following the announcement of the interim candidates. Once the public comments on the interim list of candidates have been reviewed, EPA's contractor will select the final peer reviewers who, collectively, best provide expertise spanning the multiple areas listed Unit III. and, to the extent feasible, best provide a balance of perspectives. Compensation of non-Federal peer reviewers will be provided by EPA's contractor.

List of Subjects

Environmental protection, Business and industry, Commercial buildings, Renovation, Risk assessment, Lead.

Dated: June 20, 2014.
Jeff Morris,
Acting Director, Office of Pollution Prevention and Toxics.

[FR Doc. 2014-15123 Filed 6-26-14; 8:45 am]

BILLING CODE 6560-50-P